FEDERAL ELECTION COMMISSION

11 CFR Part 110

[Notice 2022-19]

Rulemaking Petition: Conduit Reporting Threshold

AGENCY: Federal Election Commission.

ACTION: Rulemaking petition: notification of availability.

SUMMARY: On August 22, 2022, the Federal Election Commission received a Petition for Rulemaking asking the Commission to amend its existing regulations regarding the threshold amount at which conduits forwarding contributions to political committees must identify the contributors to the recipient political committees and the Commission. The petitioner requests that the Commission establish an itemization threshold equal to the contribution amount at which political committees must report the identification of contributors.

DATES: Comments must be submitted on or before December 27, 2022.

ADDRESSES: All comments must be in writing. Commenters may submit comments electronically via the Commission's website at http://sers.fec.gov/fosers/, reference REG 2022-05.

Each commenter must provide, at a minimum, his or her first name, last name, city, and state. All properly submitted comments, including attachments, will become part of the public record, and the Commission will make comments available for public viewing on the Commission's website and in the Commission's Public Records Office. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Ms. Amy Rothstein, Assistant General Counsel, or Mr. Tony Buckley, Attorney, Office of the General Counsel, at threshold@fec.gov, or at (202) 694-1650 or (800) 424-9530.

SUPPLEMENTARY INFORMATION: On August 22, 2022, the Commission received a Petition for Rulemaking (“Petition”) from WinRed, “a non-connected political action committee (“PAC”) registered with the FEC that largely operates as an intermediary through which donors may make earmarked contributions to the political committees of the donors' choosing.” Petition at 1. The Petition asks the Commission to amend its regulations at 11 CFR 110.6 to include an itemization threshold consistent with 11 CFR 104.3(a)(4) for reports of earmarked contributions filed by conduit political committees.

The Petition notes that the Federal Election Campaign Act and Commission regulations require each treasurer of a political committee to file reports of receipts and disbursements which disclose, inter alia, “the identification of each person (other than a political committee) who makes a contribution to the reporting committee during the reporting period, whose contribution or contributions have an aggregate amount or value in excess of $200 . . . together with the date and amount of any such contribution . . . .” Petition at 2 (citing 52 U.S.C. 30104(b)(3)). The Petition further notes that Congress set the reporting threshold “in excess of $200” to “simplify reporting requirements for candidates and committees” and to “reduce the marginal intrusion on personal privacy resulting from disclosure of individual contributions.” Petition at 2-3.

Commission regulations require a conduit to report to the Commission and to the recipient candidate or authorized committee, the name and mailing address of each contributor. See 11 CFR 110.6(c)(1)(i), (iv)(A). Commission regulations do not specify a threshold below which a conduit need not report the source information.

The Petition asserts that most of the contributions made through WinRed are for less than $25, with many as low as one dollar, and that current Commission regulations require that every single receipt must be itemized, since the $200 itemization threshold applicable to reports filed by the recipients of earmarked contributions is not similarly in effect for conduit PAC reports. Petition at 5. According to the Petition, “this leads to the incongruous result whereby the name and address information of small-dollar donors who make earmarked contributions is disclosed on conduit PAC reports but that information is not subsequently included on the reports of the recipients of those same earmarked contributions.” Id. The Petition argues that this “lack of consistency in how the itemization threshold applies to conduit PAC reports and reports of recipient committees defeats the threshold's underlying purposes—namely, easing administrative burdens related to reporting and protecting the privacy interests of small-dollar donors.” Id.

The Commission seeks comment on the Petition. The public may inspect the Petition on the Commission's website at http://sers.fec.gov/fosers/.

The Commission will not consider the Petition's merits until after the comment period closes. If the Commission decides that the Petition has merit, it may begin a rulemaking proceeding. The Commission will announce any action that it takes in the Federal Register.

Dated: October 21, 2022.
On behalf of the Commission.
Allen Dickerson,
Chairman, Federal Election Commission.

[FR Doc. 2022-23362 Filed 10-27-22; 8:45 am]

BILLING CODE 6715-01-P